DEPARTMENT OF THE INTERIOR

National Park Service

[NPS-IMR-PECO-34549; PS.SIMLA0051.00.1]

Minor Boundary Revision at Pecos National Historical Park

AGENCY: National Park Service, Interior.

ACTION: Notification of boundary revision.

SUMMARY: The boundary of Pecos National Historical Park is modified to include nine tracts of unimproved land totaling approximately 192.37 acres located in San Miguel County, New Mexico, immediately adjoining the boundaries of Pecos National Historical Park (Park).

DATES: The effective date of this boundary revision is October 31, 2023.

ADDRESSES: The boundary revision is depicted on Map No. 430/179,642 dated April 2023. The map is available for inspection at the following locations: National Park Service, Land Resources Program Center, 12795 West Alameda Parkway, Suite 161, Lakewood, Colorado 80228; and National Park Service, Department of the Interior, 1849 C Street NW, Washington, DC 20240.

FOR FURTHER INFORMATION CONTACT: Chief Realty Officer, William Morgan, National Park Service, Interior Regions 6, 7 & 8, Land Resources Program Center, 12795 West Alameda Parkway, Suite 161, Lakewood, Colorado, telephone (303) 969-2610.

SUPPLEMENTARY INFORMATION: Section 202(b) of the Act of June 27, 1990, 16 U.S.C. 410rr-1, (Pub. L. 101-313), authorizes the Secretary of the Interior to make minor revisions to the boundary of Pecos National Historical Park, in accordance with section 7(c) of the Land and Water Conservation Fund Act of 1965, codified as amended at 54 U.S.C. 100506(c). After notifying the House Committee on Natural Resources and the Senate Committee on Energy and Natural Resources, the Secretary of the Interior may make minor revisions to the boundaries of an area of the National Park System upon publication of Notice in the Federal Register. The Committees have been notified of this boundary revision. This boundary revision will support the Park's mission through the preservation and protection of significant resources, enhancing the interpretation and management of the Park in addition to providing expanded recreational opportunities to park visitors.

Katharine Hammond,
Regional Director, NPS Regions 6, 7, & 8.

[FR Doc. 2023-23977 Filed 10-30-23; 8:45 am]

BILLING CODE 4312-52-P